DEPARTMENT OF COMMERCE

International Trade Administration

[A-570-912]

Certain New Pneumatic Off-the-Road Tires From the People's Republic of China: Initiation and Preliminary Results of Antidumping Duty Changed Circumstances Review

AGENCY: Enforcement and Compliance, formerly Import Administration, International Trade Administration, Department of Commerce.

SUMMARY: Zhongce Rubber Group Company Limited (“Zhongce”) requested a changed circumstances review of the antidumping duty order on certain new pneumatic off-the-road tires (“OTR tires”) from the People's Republic of China (“PRC”) pursuant to section 751(b)(1) of the Tariff Act of 1930, as amended (“the Act”) and 19 CFR 351.216(b). The Department of Commerce (“Department”) is initiating this changed circumstances review and preliminarily determining, pursuant to 19 CFR 351.221(c)(3)(ii) that Zhongce is the successor-in-interest to Hangzhou Zhongce Rubber Co., Ltd. (“Hangzhou”).

DATES: Effective Date: December 27, 2013.

FOR FURTHER INFORMATION CONTACT: Andrew Medley or Brendan Quinn, AD/CVD Operations, Office III, Enforcement and Compliance, International Trade Administration, U.S. Department of Commerce, 1401 Constitution Avenue NW., Washington, DC 20230; telephone: 202-482-4987 or 202-482-5848, respectively.

SUPPLEMENTARY INFORMATION:

Background

On September 4, 2008, the Department published in the Federal Register an antidumping duty order on OTR tires from the PRC.¹ Under the Order, in the third administrative review, Hangzhou received its own calculated rate of 112.41 percent.²

¹ See Certain New Pneumatic Off-the-Road Tires From the People's Republic of China: Notice of Amended Final Affirmative Determination of Sales at Less Than Fair Value and Antidumping Duty Order, 73 FR 51624 (September 4, 2008) (“Order”).

² See Certain New Pneumatic Off-the-Road Tires From the People's Republic of China: Final Results of Antidumping Duty Administrative Review and Final Rescission, in Part; 2010-2011, 78 FR 22513 (April 16, 2013).

On November 5, 2013, Zhongce requested that the Department conduct a changed circumstances review of the Order to confirm that Zhongce is the successor-in-interest to Hangzhou.³ In its submission, Zhongce explained that the only change was to the name of the company, and provided evidence supporting its claim.⁴

³ See Letter from Zhongce to the Department titled “New Pneumatic Off-The-Road Tires from the PRC: Request for Hangzhou Zhongce Rubber Co., Ltd. for Changed Circumstances Review” (November 5, 2013) (“Zhongce Request for CCR”).

⁴ Id. at 2-3 and Attachments 1, 2, and 3.

Scope of the Order

The merchandise covered by this Order includes new pneumatic tires designed for off-the-road and off-highway use, subject to certain exceptions.⁵ The subject merchandise is currently classifiable under Harmonized Tariff Schedule of the United States (“HTSUS”) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. The HTSUS subheadings are provided for convenience and customs purposes only; the written product description of the scope of the order is dispositive.

⁵ For a complete description of the Scope of the Order, see Certain New Pneumatic Off-the-Road Tires From the People's Republic of China: Final Results of Antidumping Duty New Shipper Review; 2011-2012, 78 FR 33341 (June 4, 2013), and accompanying Issues and Decision Memorandum at “Scope.”

Initiation and Preliminary Results

Pursuant to section 751(b)(1) of the Act, the Department will conduct a changed circumstances review upon receipt of information concerning, or a request from, an interested party for a review of an antidumping duty order which shows changed circumstances sufficient to warrant a review of the order. As indicated in the “Background” section, we received information indicating that Hangzhou changed its name to Zhongce, effective August 19, 2013. This constitutes changed circumstances warranting a review of the order.⁶ Therefore, in accordance with section 751(b)(1) of the Act and 19 CFR 351.216(d) and (e), we are initiating a changed circumstances review based upon the information contained in Zhongce's submission.

⁶ See 19 CFR 351.216(d).

Section 351.221(c)(3)(ii) of the Department's regulations permits the Department to combine the notice of initiation of a changed circumstances review and the notice of preliminary results if the Department concludes that expedited action is warranted. In this instance, because the record contains information necessary to make a preliminary finding, we find that expedited action is warranted and have combined the notice of initiation and the notice of preliminary results.

In this changed circumstances review, pursuant to section 751(b) of the Act, the Department conducted a successor-in-interest analysis. In making a successor-in-interest determination, the Department examines several factors, including, but not limited to, changes in the following: (1) Management; (2) production facilities; (3) supplier relationships; and (4) customer base.⁷ While no single factor or combination of factors will necessarily provide a dispositive indication of a successor-in-interest relationship, generally, the Department will consider the new company to be the successor to the previous company if the new company's resulting operation is not materially dissimilar to that of its predecessor.⁸ Thus, if the record evidence demonstrates that, with respect to the production and sale of the subject merchandise, the new company operates as the same business entity as the predecessor company, the Department may assign the new company the cash deposit rate of its predecessor.⁹

⁷ See, e.g., Notice of Final Results of Changed Circumstances Antidumping Duty Administrative Review: Polychloroprene Rubber From Japan, 67 FR 58 (January 2, 2002).

⁸ See, e.g., Fresh and Chilled Atlantic Salmon From Norway; Final Results of Changed Circumstances Antidumping Duty Administrative Review, 64 FR 9979, 9980 (March 1, 1999).

⁹ See, e.g., Circular Welded Non-Alloy Steel Pipe From the Republic of Korea; Preliminary Results of Antidumping Duty Changed Circumstances Review, 63 FR 14679 (March 26, 1998), unchanged in Circular Welded Non-Alloy Steel Pipe From Korea; Final Results of Antidumping Duty Changed Circumstances Review, 63 FR 20572 (April 27, 1998), in which the Department found that a company which only changed its name and did not change its operations is a successor-in-interest to the company before it changed its name.

In accordance with 19 CFR 351.216, we preliminarily determine that Zhongce is the successor-in-interest to Hangzhou. Record evidence, as submitted by Zhongce, indicates that the only change undergone was that of the name, from “Hangzhou Zhongce Rubber Co., Ltd.” to “Zhongce Rubber Group Company Limited.”¹⁰ Specifically, Zhongce provided a board of directors resolution authorizing the change of company name and specifying that the registered capital and business scope of the company were to remain the same;¹¹ a notarized notice of change in registration, affixed with the sign and seal of the Hangzhou Municipal Administration for Industry and Commerce, showing the change of names;¹² and a copy of its new business license showing Zhongce's new name.¹³ In summary, Zhongce presented evidence to support its claim of successorship and the change in name did not impact any of the criteria that the Department typically looks to when making a changed circumstances determination.

¹⁰ See Zhongce Request for CCR.

¹¹ Id. at Attachment 1.

¹² Id. at Attachment 2.

¹³ Id. at Attachment 3.

We find that the evidence provided by Zhongce is sufficient to preliminarily determine that the change of its corporate name from Hangzhou to Zhongce did not affect the company's operations in a meaningful way. Therefore, based on the aforementioned reasons, we preliminarily determine that Zhongce is the successor-in-interest to Hangzhou and, thus, should receive the same antidumping duty treatment with respect to OTR tires from the PRC as the former Hangzhou.

Public Comment

Pursuant to 19 CFR 351.310(c), any interested party may request a hearing within 30 days of publication of this notice. In accordance with 19 CFR 351.309(c)(1)(ii), interested parties may submit case briefs not later than 30 days after the date of publication of this notice. Rebuttal briefs, limited to issues raised in the case briefs, may be filed no later than five days after the case briefs, in accordance with 19 CFR 351.309(d).

Consistent with 19 CFR 351.216(e), we will issue the final results of this changed circumstances review no later than 270 days after the date on which this review was initiated, or within 45 days if all parties agree to our preliminary finding. This notice is published in accordance with sections 751(b)(1) and 777(i) of the Act and 19 CFR 351.216(b), 351.221(b) and 351.221(c)(3).

Dated: December 20, 2013.
Ronald K. Lorentzen,
Acting Assistant Secretary for Enforcement and Compliance.

[FR Doc. 2013-31117 Filed 12-26-13; 8:45 am]

BILLING CODE 3510-DS-P